DEPARTMENT OF COMMERCE

National Oceanic and Atmospheric Administration

RIN 0649-XF726

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's Law Enforcement Committee (LEC).

DATES: The meeting will convene on Wednesday, October 18, 2017, starting at 8:30 a.m. and will adjourn at 5 p.m.

ADDRESSES: The meeting will be held at the Battle House Renaissance hotel, located at 26 North Royal Street, Mobile, AL 36602; telephone: (251) 338-2000.

Council address: Gulf of Mexico Fishery Management Council, 2203 N. Lois Avenue, Suite 1100, Tampa, FL 33607; telephone: (813) 348-1630.

FOR FURTHER INFORMATION CONTACT: Mr. Steven Atran, Senior Fishery Biologist, Gulf of Mexico Fishery Management Council; steven.atran@gulfcouncil.org, telephone: (813) 348-1630, and Mr. Steve Vanderkooy, Inter-jurisdictional Fisheries Coordinator, Gulf States Marine Fisheries Commission; svanderkooy@gsmfc.org, telephone: (228) 875-5912.

SUPPLEMENTARY INFORMATION: The items of discussion on the agenda are as follows:

Joint Gulf Council's Law Enforcement Technical Committee and Gulf States Marine Fisheries Commission's Law Enforcement Committee Meeting Agenda

Wednesday, October 18, 2017, 8:30 a.m. until 5 p.m.

1. Introductions and Adoption of Agenda

2. Approval of Minutes (Joint Meeting October 13, 2016)

3. Special election for LETC Vice-chair

4. Discussion of Joint LETC/LEC Chairs

Gulf Council LETC Items

5. Options Paper for Amendment 36B—Modifications to Commercial Individual Fishing Quota Programs

6. Draft Amendment—State Management Program for Recreational Red Snapper

7. Options Paper for Venting Tools and Descending Devices

8. Options Paper for Draft Modifications to the Sea Turtle Release Protocol and Gear for the Reef Fish Fishery

9. Coral Amendment 9—Public Hearing Draft of Coral Habitat Areas Considered for Management in the Gulf of Mexico

10. Spiny Lobster Amendment 12—Bully net gear regulations for spiny lobster for the EEZ off Florida

11. Implications of Permit Transfers for Federal For-Hire Vessels

12. Review of the Guidelines for the 2017 Officer of the Year Award

13. Overview of Congressional Activities

GSMFC LEC Items

14. Potential JEA Gulf-Wide Observed Compliance Rates

15. IJF Program Activity

a. Cobia Profile

b. Officers' Pocket Guide

c. Annual License and Fees

d. Law Summary (red book)

16. State Report Highlights

a. Florida

b. Alabama

c. Mississippi

d. Louisiana

e. Texas

f. USCG

g. NOAA OLE

h. USFWS

17. Other Business

—Meeting Adjourns—

The Agenda is subject to change. The latest version of the agenda along with other meeting materials will be posted on the Council's file server, which can be accessed by going to the Council Web site at http://www.gulfcouncil.org and clicking on File Server under Quick Links. For meeting materials see folder “LETC Meeting-2017-10” on Gulf Council file server. The username and password are both “gulfguest”.

The Law Enforcement Technical Committee consists of principal law enforcement officers in each of the Gulf States, as well as the NOAA Law Enforcement, U.S. Fish and Wildlife Service, the U.S. Coast Guard, and the NOAA General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: October 2, 2017.
Jeffrey N. Lonergan,
Acting Deputy Director, Office of Sustainable Fisheries, National Marine Fisheries Service.

[FR Doc. 2017-21464 Filed 10-4-17; 8:45 am]

BILLING CODE 3510-22-P